NUCLEAR REGULATORY COMMISSION

[NRC-2009-0403]

Notice of Availability of the Proposed Models For Plant-Specific Adoption of Technical Specifications Task Force (TSTF) Traveler TSTF-446, Revision 3, “Risk Informed Evaluation of Extensions to Containment Isolation Valve Completion Times (WCAP-15791)”

AGENCY: Nuclear Regulatory Commission (NRC)

ACTION: Notice of availability.

SUMMARY: The NRC is announcing the availability of the proposed model application (with model no significant hazards consideration determination) and model safety evaluation (SE) for plant-specific adoption of Technical Specifications Task Force (TSTF) Traveler TSTF-446, Revision 3, “Risk Informed Evaluation of Extensions to Containment Isolation Valve Completion Times (WCAP-15791).” TSTF-446, Revision 3, is available in the Agencywide Documents Access and Management System (ADAMS) under Accession Number ML080510164. The proposed changes revise Standard Technical Specifications (TS) with respect to completion times for containment isolation valves. This model SE will facilitate expedited approval of plant-specific adoption of TSTF-446, Revision 3.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

The proposed model application (with model no significant hazards consideration determination) and model SE for plant-specific adoption of TSTF-446, Revision 3, are available electronically under ADAMS Accession Number ML101540632. The NRC staff disposition of comments received to the Notice of Opportunity for Public Comment announced in the Federal Register on September 15, 2009 (74 FR 47289-47298), is available electronically under ADAMS Accession Number ML101540634.

Federal Rulemaking Web site: Public comments received and supporting materials related to this notice can be found at http://www.regulations.gov by searching on Docket ID: NRC-2009-0403.

FOR FURTHER INFORMATION CONTACT: Ravinder Grover, Technical Specifications Branch, Mail Stop: O-7 C2A, Division of Inspection and Regional Support, Office of Nuclear Reactor Regulation, U.S. Nuclear Regulatory Commission, Washington, DC, 20555-0001; telephone 301-415-2166 or e-mail at Ravinder.Grover@nrc.gov.

SUPPLEMENTARY INFORMATION: TSTF-446, Revision 3, is applicable to all Westinghouse plants. Licensees opting to apply for this TS change are responsible for reviewing the NRC staff's model SE, referencing the applicable technical justifications, and providing any necessary plant-specific information. The NRC will process each amendment application responding to this notice of availability according to applicable NRC rules and procedures.

The proposed models do not prevent licensees from requesting an alternate approach or proposing changes other than those proposed in TSTF-446, Revision 3. However, significant deviations from the approach recommended in this notice or the inclusion of additional changes to the license require additional NRC staff review. This may increase the time and resources needed for the review or result in NRC staff rejection of the license amendment request (LAR). Licensees desiring significant deviations or additional changes should instead submit an LAR that does not claim to adopt TSTF-446, Revision 3.

Dated at Rockville, Maryland, this 24th day of June 2010.
For the Nuclear Regulatory Commission.
John R. Jolicoeur,
Chief, Licensing Processes Branch, Division of Policy and Rulemaking, Office of Nuclear Reactor Regulation.

[FR Doc. 2010-16761 Filed 7-12-10; 8:45 am]

BILLING CODE 7590-01-P